DEPARTMENT OF HEALTH AND HUMAN SERVICES

Administration for Children and Families

[Program Announcement No. ACF/ACYF/CB FY 2000-01B]

Announcement of the Availability of Financial Assistance and Request for Applications To Support Adoption Opportunities Demonstration Projects, Child Abuse and Neglect Discretionary Activities, Child Welfare Training Projects, and Abandoned Infants Assistance Awards.

AGENCY: Children's Bureau, Administration on Children, Youth and Families, ACF, DHHS.

ACTION: Correction/cancellation.

SUMMARY: This document contains a correction to the Notice that was published in the Federal Register on Thursday, April 13, 2000 (65 FR 19904). The solicitation for competitive proposals for priority area 2000A.2—Operation of a National Adoption Information Exchange System as a freestanding entity is canceled.

The purposes of operating and maintaining a National Adoption Information Exchange System to bring together children who would benefit from adoption and qualified prospective adoptive parents who are seeking children and to conduct national recruitment efforts in order to reach prospective parents for children awaiting adoption will be combined with the task of continuing to develop an Internet-based photo listing system. Upon further consideration, it has been decided that separating the photo listing service from the exchange and database, upon which it depends, would cause serious confusion to State child welfare agencies, would undermine the integrity of what is a single effort to assist States in inter-jurisdictional recruitment of families, and would pose the possibility of supporting duplicative projects. Because the grant for the photo-listing service will be awarded following directions from Congress, the competition for the exchange alone is being canceled.

In accordance with the Department's Grants Policy Directive (GPD) 2.04(F), and ad hoc review will be done on the noncompetitive application for the combined exchange and photo-listing activities and a notification of the intent to award the grant will be published in the Federal Register prior to or simultaneously with the award of this grant. The notification will include, at a minimum, the following information: (1) recipient's name; (2) amount of award; (3) project period; (4) reason for no competition; and (5) the name and address of the official to be contacted for more information on this award.

The complete corrected current availability of funds announcement package is posted on the Children's Bureau website: http://www.acf.dhhs.gov/programs/cb/policy/cb200001.htm.

FOR FURTHER INFORMATION CONTACT: The ACYF Operations Center at 1-800-351-2293 or send an email to cb@lcgnet.com or call Sally Flanzer, Children's Bureau, at 202-215-8914.

Dated: May 12, 2000.
Patricia Montoya,
Commissioner, Administration on Children, Youth and Families.

[FR Doc. 00-12696 Filed 5-19-00; 8:45 am]

BILLING CODE 4184-01-M